DEPARTMENT OF TRANSPORTATION

Pipeline and Hazardous Materials Safety Administration

[Docket No. PHMSA-2012-0024]

Pipeline Safety: Information Collection Activities, Revision to Gas Transmission and Gathering Pipeline Systems Annual Report, Gas Transmission and Gathering Pipeline Systems Incident Report, and Hazardous Liquid Pipeline Systems Accident Report

AGENCY: Pipeline and Hazardous Materials Safety Administration (PHMSA), DOT.

ACTION: Notice and request for comments.

SUMMARY: PHMSA is preparing to request approval from the Office of Management and Budget (OMB) for the revision of several forms in two currently approved information collections. PHMSA is looking at making several minor revisions to the hazardous liquid pipeline systems accident report and the gas transmission and gathering pipeline systems incident report. In addition, PHMSA is considering a number of revisions to the annual report form for gas transmission and gathering pipeline systems. In accordance with the Paperwork Reduction Act (PRA) of 1995, PHMSA invites comments only on the proposed revisions to the forms.

DATES: Interested persons are invited to submit comments on or before June 12, 2012.

ADDRESSES: Comments may be submitted in the following ways:

E-Gov Web Site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-0001.

Hand Delivery: Room W12-140 on the ground level of DOT, West Building, 1200 New Jersey Avenue SE., Washington, DC, between 9 a.m. and 5 p.m., Monday through Friday, except Federal holidays.

Instructions: Identify the docket number, PHMSA-2012-0024, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or visit http://www.regulations.gov before submitting any such comments.

Docket: For access to the docket or to read background documents or comments, go to http://www.regulations.gov at any time or to Room W12-140 on the ground level of DOT, West Building, 1200 New Jersey Avenue SE., Washington, DC, between 9 a.m. and 5 p.m., Monday through Friday, except Federal holidays. If you wish to receive confirmation of receipt of your written comments, please include a self-addressed, stamped postcard with the following statement: “Comments on PHMSA-2012-0024.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Cameron Satterthwaite by telephone at 202-366-1319, by fax at 202-366-4566, or by mail at DOT, PHMSA, 1200 New Jersey Avenue SE., PHP-30, Washington, DC 20590-0001.

SUPPLEMENTARY INFORMATION:

A. Background

Section 1320.8(d), Title 5, Code of Federal Regulations, requires PHMSA to provide interested members of the public and affected agencies an opportunity to comment on information collection requests. This notice identifies several changes to existing information collections that PHMSA will be submitting to OMB for approval.

B. Incident and Accident Report Revisions

PHMSA is revising the gas transmission and gathering pipeline systems incident report (PHMSA F 7100.2, gas transmission incident report) and hazardous liquid pipeline systems accident report (PHMSA F 7000-1, hazardous liquid accident report) to collect additional information relative to incidents involving girth welds. The revisions to these forms will allow for the reporting of detailed information regarding the pipe involved with the weld. This information includes basic information such as pipe size, diameter, and thickness. Several other minor changes are being made to align the form with the online system used to collect the reports from pipeline operators. The gas transmission incident report is approved under OMB control number 2137-0522 and the hazardous liquid accident report is approved under OMB control number 2137-0047. PHMSA does not anticipate any change to the burden of the information collection due to the proposed revision of these forms.

C. Gas Transmission and Gathering Pipeline Systems Annual Report Revisions

On September 26, 2011, the National Transportation Safety Board issued recommendations to PHMSA regarding improvements in pipeline safety. These recommendations include requiring that all gas transmission pipelines installed before 1970 be subjected to pressure testing, that manufacturing- and construction-related defects only be considered stable if a gas pipeline has been subjected to a post-construction hydrostatic test of at least 1.25 times the maximum allowable operating pressure (MAOP), and that all gas transmission pipelines be able to accommodate in-line inspection tools. On January 3, 2012, President Obama signed the Pipeline Safety, Regulatory Certainty, and Job Creation Act of 2011 which requires that PHMSA:

• Issue a regulation for the testing of previously untested gas transmission pipelines located in high consequence areas (HCAs) and operating at a pressure greater than 30 percent of specified minimum yield strength;

• Require each owner or operator to verify that their records accurately reflect the physical and operational characteristics of their pipelines and associated facilities within Class 3 and 4 locations and Class 1 and 2 HCAs; and

• Require each owner or operator to identify and submit documentation relating to each pipeline segment for which records are insufficient to confirm the established MAOP.

PHMSA intends to revise the gas transmission and gathering pipeline systems annual report (PHMSA F 7100.2-1, gas transmission annual report) to provide a mechanism for owners and operators to identify those segments of pipelines for which it is unable to verify the MAOP. For the purpose of reporting, “verification records” are records that can be used to validate the MAOP for the subject pipelines such as as-built drawings, alignment sheets, specifications, and design, construction, inspection, testing, maintenance, manufacturer, or other related documents. These records should be traceable, verifiable, and complete. The purpose of this verification is to ensure that the records accurately reflect the physical and operational characteristics of the pipelines. In an upcoming Advisory Bulletin, PHMSA will inform operators of their responsibilities to verify that their records accurately reflect the physical and operational characteristics of their pipelines and associated facilities. In addition, the Advisory Bulletin will further clarify what PHMSA considers to be a “verifiable” record.

PHMSA also intends to revise the gas transmission annual report to collect other information related to the NTSB Recommendations and the recently signed legislation detailed above. In addition to the MAOP verification reporting, these revisions will allow for the collection of information regarding the methodology used to determine the MAOP of gas transmission pipelines, the total miles of pipelines which have not been subjected to a post-construction hydrostatic pressure test of at least 125% of the MAOP, and total miles of pipelines which are not able to accommodate the passage of instrumented internal inspection devices. PHMSA is also revising the gas transmission annual report to improve the granularity of the data, remove sections of limited value, collect data about anomalies removed from gas transmission pipeline systems, and make several minor changes to improve the quality of the data. Background for these topics is as follows:

Pipeline Material Reporting by State: Pipeline mileage by material type was collected state-by-state prior to 2010. This data allowed PHMSA to determine the amounts and types of pipeline materials used in each state. The proposed change would restore this granularity which was lost during the 2010 revision to the gas transmission annual report. Parts D and E of the gas transmission annual report are used to collect information regarding pipeline material type. PHMSA proposes to collect this information in the state-specific section of the report and to combine Parts D and E of the report into a single table. This change will not impact the burden of the information collection.

Additional Commodities: In the current gas transmission annual report, operators have the ability to report “other” as the commodity transported and then enter text describing the commodity. Based on a review of 2010 data, many operators submitted text equivalent to landfill gas to describe the “other” commodity. PHMSA proposes to add landfill gas as a commodity choice to reduce the mileage reported under the “other” category. This change will not impact the burden of the information collection.

Additional Material Type: PHMSA recognizes that composite pipe materials are currently being used, or considered for use, by the pipeline industry. Outside of reinforced thermosetting plastic, in certain and limited use, composite pipe can only be used if PHMSA issues a special permit. In an effort to determine the amount of composite pipe currently in use, PHMSA proposes to add “composite pipe” as a material type to Parts D and N of the gas transmission annual report. This change will not impact the burden of the information collection.

Removal of Sections A6 and A8: Section A6 in the gas transmission annual report allows each submitter to characterize the facilities covered by their Operator Identification (OPID) and commodity group with respect to whether they are included in an integrity management program subject to 49 CFR part 192. Section A8 allowed submitters to identify whether or not there were any changes from the previous year's filing. PHMSA has determined that these sections provide limited value to all stakeholders and should be removed. This change will not impact the burden of the information collection.

Anomalies Removed from Gas Transmission Systems: The gas transmission annual report currently collects information about the number of anomalies repaired in response to integrity assessments. During data quality checks of the 2010 data, PHMSA learned that many anomalies are eliminated from gas transmission systems by pipe replacement or abandonment. This data helps to demonstrate the benefits of integrity management programs. Therefore, PHMSA proposes to revise the gas transmission annual report to collect the number of anomalous conditions eliminated by pipe replacement and abandonment in Part F of the report.

PHMSA estimates that these revisions will add a burden of two hours per response to the gas transmission annual report. PHMSA receives approximately 1,440 gas transmission annual reports each year. Therefore, PHMSA estimates the burden of the information collection to increase by a total of 2,880 hours (1,440 reports × 2 hours). A copy of the revised report has been placed in the docket and is available for comment.

D. Information Collection Focus

PHMSA is only requesting approval of the information collection changes addressed in this notice. The information collection for hazardous liquid accident reports (OMB control number 2137-0047) is scheduled to expire December 31, 2013, and the information collection that covers gas transmission annual reports and incident reports (OMB control number 2137-0522) is scheduled to expire January 31, 2014. In 2013, PHMSA will solicit comments on all aspects of these information collections, including the forms, in accordance with the standard PRA renewal process.

E. Summary of Impacted Collections

The following information is provided for each information collection: (1) Title of the information collection; (2) OMB control number; (3) Current expiration date; (4) Type of request; (5) Abstract of the information collection activity; (6) Description of affected public; (7) Estimate of total annual reporting and recordkeeping burden; and (8) Frequency of collection. PHMSA is only focusing on the revisions detailed in this notice and will request revisions to the following information collection activities. PHMSA requests comments on the following information collections:

1. Title: Incident and Annual Reports for Gas Pipeline Operators.

OMB Control Number: 2137-0522.

Current Expiration Date: 1/31/2014.

Type of Request: Revision.

Abstract: PHMSA is looking to revise the gas transmission annual report (PHMSA F 7100.2-1) to collect additional information in response to recent NTSB recommendations and legislation. In addition, PHMSA is revising the gas transmission incident report form (PHMSA F 7100.2) to allow for the submission of additional information regarding the pipe in relation to girth weld failures.

Affected Public: Gas transmission/gathering pipeline operators.

Annual Reporting and Recordkeeping Burden:

Total Annual Responses: 21,864.

Total Annual Burden Hours: 80,264 (increase of 2,880).

Frequency of Collection: On occasion.

2. Title: Transportation of Hazardous Liquids by Pipeline: Recordkeeping and Accident Reporting.

OMB Control Number: 2137-0047.

Current Expiration Date: 12/31/2013.

Type of Request: Revision.

Abstract: PHMSA is looking to revise the hazardous liquid incident report form (PHMSA F 7000-1) to allow for the submission of additional information regarding the pipe in relation to girth weld failures.

Affected Public: Hazardous liquid pipeline operators.

Annual Reporting and Recordkeeping Burden:

Total Annual Responses: 847.

Total Annual Burden Hours: 51,329.

Frequency of Collection: On occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC on April 10, 2012.
Linda Daugherty,
Deputy Associate Administrator for Policy and Programs.

[FR Doc. 2012-8960 Filed 4-12-12; 8:45 am]

BILLING CODE 4910-60-P